DEPARTMENT OF AGRICULTURE

Rural Business-Cooperative Service

7 CFR Part 4280

RIN 0570-AA50

Renewable Energy Systems and Energy Efficiency Improvements Grant, Guaranteed Loan, and Direct Loan Program

AGENCY: Rural Business-Cooperative Service, USDA.

ACTION: Proposed rule: extension of comment period.

SUMMARY: The Rural Business-Cooperative Service (RBS) is extending the deadline of November 4, 2004, for submitting comments regarding the proposed Renewable Energy Systems and Energy Efficiency Improvements Grant, Guaranteed Loan, and Direct Loan Program. The program will assist farmers, ranchers, and small rural businesses to purchase renewable energy systems and make energy efficiency improvements. The proposed rule was published in the Federal Register on October 5, 2004 (69 FR 59650). This extension will allow additional time for the public to submit comments.

DATES: Comments must be submitted by December 15, 2004.

ADDRESSES: You may submit comments to this rule by any of the following methods:

Agency Web Site: http://rdinit.usda.gov/regs/. Follow instructions for submitting comments on the Web site.

E-Mail: comments@usda.gov. Include the RIN No. 0570-AA50 in the subject line of the message.

Federal eRulemaking Portal: http://www.regulations.gov. Follow the instructions for submitting comments.

Mail: Submit written comments via the U.S. Postal Service to the Branch Chief, Regulations and Paperwork Management Branch, U.S. Department of Agriculture, STOP 0742, 1400 Independence Avenue, SW., Washington, DC 20250-0742.

Hand Delivery/Courier: Submit written comments via Federal Express Mail or another courier service requiring a street address to the Branch Chief, Regulations and Paperwork Management Branch, U.S. Department of Agriculture, 300 7th Street, SW., 7th Floor, Washington, DC 20024.

All written comments will be available for public inspection during regular working hours at 300 7th Street, SW., 7th Floor, address listed above.

FOR FURTHER INFORMATION CONTACT: Georg A. Shultz, Special Advisor for Renewable Energy Policy and Programs, Office of the Deputy Administrator Business Programs, U.S. Department of Agriculture, Mail Stop 3220, 1400 Independence Ave., SW., Washington, DC 20250-3220, telephone: (202) 720-2976.

SUPPLEMENTARY INFORMATION: RBS published the notice of proposed rule making with a 30-day comment period. The reason for this limited time for comments was based primarily on the need to have a published final rule in time for the implementation of the program in fiscal year (FY) 2005. The Agency felt that since the program outlined in the proposed rule is similar in scope as the Notices of Funds Availability (NOFA) for the grant program published in FY 2003 and FY 2004 and the Agency's current Business and Industry Guaranteed Loan Program forms the basis of the proposed guaranteed loan program, that a 30-day period would be sufficient. The additional 30-day comment period will delay publication of the final rule a commensurate time. The delay in publication will create additional time constraints on applicants. It will also constrain the time for processing the applications, including meeting environmental assessment requirements. RBS is extending the comment period in response to numerous requests from the public for additional time to comment.

Dated: November 5, 2004.
Gilbert Gonzalez,
Acting Under Secretary, Rural Development.

[FR Doc. 04-25239 Filed 11-12-04; 8:45 am]

BILLING CODE 3410-XY-P